DEPARTMENT OF HEALTH AND HUMAN SERVICES

National Institutes of Health

National Institute of Neurological Disorders and Stroke, Muscular Dystrophy Coordinating Committee Call for Committee Membership Nominations

AGENCY: National Institutes of Health, HHS.

ACTION: Notice.

SUMMARY: The Office of the Secretary of the Department of Health and Human Services (HHS) is seeking nominations for an individual to serve as a nonfederal public member on the Muscular Dystrophy Coordinating Committee.

DATES: Nominations are due by 5:00 p.m. EDT on February 28, 2020.

ADDRESSES: Nominations must be sent to Glen Nuckolls, Ph.D., by email to nuckollg@ninds.nih.gov.

FOR FURTHER INFORMATION CONTACT: Glen Nuckolls, Ph.D., by email to nuckollg@ninds.nih.gov. or (301) 496-5745.

SUPPLEMENTARY INFORMATION: The Muscular Dystrophy Coordinating Committee (MDCC) is a federal advisory committee established in accordance with the Muscular Dystrophy Community Assistance, Research, and Education Amendments of 2001 (MD-CARE Act; Pub. L. 107-84). The MD-CARE Act was reauthorized in 2008 by Public Law 110-361, and again in 2014 by Public Law 113-166. The MD-CARE Act specifies that the committee membership be composed of ⅔ governmental agency representatives and ⅓ public members. We are seeking nominations for four non-federal, public members at this time, due to turnover of committee membership. Nominations will be accepted between January 28 and February 28, 2020.

Who is Eligible: Nominations are encouraged for new or reappointment of non-federal public members who can provide the public and/or patient perspectives to discussions of issues considered by the Committee. Self-nominations and nominations of other individuals are both permitted. Only one nomination per individual is required. Multiple nominations for the same individual will not increase likelihood of selection. Non-federal, public members may be selected from the pool of submitted nominations or other sources as needed to meet statutory requirements and to form a balanced committee that represents the diversity within the muscular dystrophy communities. Nominations are especially encouraged from leaders or representatives of muscular dystrophy research, advocacy, or service organizations, individuals with muscular dystrophy or their parents or guardians. In accordance with White House Office of Management and Budget guidelines (FR Doc. 2014-19140), federally-registered lobbyists are not eligible.

Committee Composition: The Department strives to ensure that the membership of HHS Federal advisory committees is fairly balanced in terms of points of view represented and the committee's function. Every effort is made to ensure that the views of all genders, all ethnic and racial groups, and people with disabilities are represented on HHS Federal advisory committees and, therefore, the Department encourages nominations of qualified candidates from these groups. The Department also encourages geographic diversity in the composition of the Committee. Appointment to this Committee shall be made without discrimination on the basis of age, race, ethnicity, gender, sexual orientation, disability, and cultural, religious, or socioeconomic status. Requests for reasonable accommodation to enable participation on the Committee should be indicated in the nomination submission.

Member Terms: Non-Federal public members of the Committee serve for a term of 3 years, and may serve for an unlimited number of terms if reappointed. Members may serve after the expiration of their terms, until their successors have taken office.

Meetings and Travel: As specified by Public Law 113-166, the MDCC “shall meet no fewer than two times per calendar year.” Travel expenses are provided for non-federal public Committee members to facilitate attendance at in-person meetings. Members are expected to make every effort to attend all full committee meetings, twice per year, either in person or via remote access. Participation in relevant subcommittee, working and planning group meetings, and workshops, is also encouraged.

Submission Instructions and Deadline: Nominations are due by 5 p.m. EDT on February 28, 2020, and should be sent to Glen Nuckolls, Ph.D., by email to nuckollg@ninds.nih.gov.

Nominations must include contact information for the nominee, a current curriculum vitae or resume of the nominee and a paragraph describing the qualifications of the person to represent some portion(s) of the muscular dystrophy research, advocacy and/or patient care communities.

More information about the MDCC is available at https://mdcc.nih.gov/.

Dated: January 16, 2020.
Walter J. Koroshetz,
Director, National Institute of Neurological Disorders and Stroke, National Institutes of Health.

[FR Doc. 2020-01319 Filed 1-24-20; 8:45 am]

BILLING CODE 4140-01-P